DEPARTMENT OF DEFENSE

Office of the Secretary

[Docket ID: DoD-2013-OS-0160]

Proposed Collection; Comment Request

AGENCY: Defense Finance and Accounting Service (DFAS), DoD.

ACTION: Notice.

SUMMARY: In compliance with Section 3506(c)(2)(A) of the Paperwork Reduction Act of 1995, the DFAS announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 17, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Finance and Accounting Services—Columbus, Ohio, 3990 E. Broad Street, Columbus, Ohio 43216, ATTN: Ms. Kenna Robinett, Account Management and Provisioning System (AMPS) Program Manager, Enterprise Systems. Telephone: (614) 701-2451 or Mr. Marcus Ritter, Project Manager, (317-212-6547); and Defense Logistics Agency (DLA), AMPS Program Manager, Mr. Walter B. Gooch, System Manager, Branch Chief, External Solutions, DLA Richmond VA, 8000 Jefferson Davis Highway, Richmond, Virginia 23237. Telephone: (804) 279-3075.

Title; Associated Form; and OMB Number: Account Management and Provisioning System (AMPS); OMB Control Number: 0730-TBD.

Needs and Uses: The information collection requirement is necessary to maintain information for operations to control and track access to secure networks, computer systems, and databases. Records are maintained on electronic storage media. The SSNs are used to allow Non-DoD individuals to create a user account within AMPS, and for AMPS to track those users. Additionally, the SSN is used for systems that limit system rights based on that number. For example, in the Defense Civilian Pay System (DCPS), a user is not allowed to access their pay records, and that is managed through the SSN.

Affected Public: Individuals or Households

Annual Burden Hours: 209 hours

Number of Respondents: 2500

Responses per Respondent: 1

Average Burden per Response: 5 minutes

Frequency: On occasion

SUPPLEMENTARY INFORMATION:

Summary of Information Collection

AMPS does not extract or interface with any other system to obtain PII information for users. All users are required to set-up a user account to use AMPS. AMPS is Common Access Card (CAC) enabled and DoD employees will access AMPS via their CAC. AMPS can extract user data from the Electronic Data Interchange-Personnel Identifier (EDI/PI) to help set-up the user account. Any user that is not issued a CAC will enter their information into AMPS to create a user account, and will be given a user ID and password to access the system.

The following are examples of information collected from users: User names; SSN (for individuals not in possession of a CAC such as newly hired Federal employees); U.S. citizenship status (i.e., U.S. Citizen, Foreign National, other); physical and electronic address; work telephone numbers; organization; office symbol; contractor/employee status; computer logon addresses, passwords, and user identification codes; type of access/permissions required; verification of need to know; dates of mandatory information assurance awareness training; and security clearance data. The system also captures details about programs, databases, functions, and sites accessed and/or used; dates and times of use; and information products created, received, or altered during use. The records may also contain details about access or functionality problems telephoned in for technical support along with resolution. For individuals who telecommute from home or a telework center, the records may contain the electronic address and telephone number at that location. For contractors, the system also contains the company name, contract number, and contract expiration date.

Dated: July 11, 2013.
Aaron Siegel,
Alternate OSD Federal Register Liaison Officer, Department of Defense.

[FR Doc. 2013-17376 Filed 7-18-13; 8:45 am]

BILLING CODE 5001-06-P